DEPARTMENT OF DEFENSE

Department of the Navy

Notice of Intent To Prepare an Environmental Impact Statement for Basewide Utility Infrastructure Improvements at Marine Corps Base (MCB) Camp Pendleton, San Diego County, CA

AGENCY: Department of the Navy, DoD.

ACTION: Notice.

SUMMARY: In accordance with section 102(2)(c) of the National Environmental Policy Act (NEPA) of 1969 (42 U.S.C. 4332(2)(c)), as implemented by the Council on Environmental Quality Regulations (40 CFR parts 1500-1508), the Department of the Navy intends to prepare an environmental impact statement (EIS) and conduct a public scoping meeting for the proposed construction, installation, and operation of multiple utility infrastructure improvements throughout MCB Camp Pendleton in San Diego County, California.

DATES: The Department of the Navy will review all comments received during the 30-day public scoping period, which starts with the publication of this Notice of Intent. The public scoping meeting will be held in the San Clemente Community Center, 100 North Calle Seville, San Clemente, California, 92672 from 6 p.m. to 8 p.m. on December 10, 2008.

ADDRESSES: Written comments on the scope of the MCB Camp Pendleton Basewide Utility Infrastructure Improvements EIS should be directed to: Ms. Rebecca Loomis, Naval Facilities Engineering Command Southwest, 1220 Pacific Highway, San Diego, California, 92132.

FOR FURTHER INFORMATION CONTACT: Ms. Rebecca Loomis, Naval Facilities Engineering Command Southwest at telephone: 619-532-3728, fax: 619-532-4160, or e-mail: rebecca.l.loomis@navy.mil.

SUPPLEMENTARY INFORMATION: The purpose of the proposed action is to provide reliable, new, expanded, compliant utility systems to support Military Training and Operations and delivery of life support and quality of life services. The proposed action will also provide system redundancy that will enable the delivery of utility services during periods of scheduled and unscheduled/emergency outages. The proposed action is needed to modernize and expand Camp Pendleton's aging (1940s/50s era) utility systems and infrastructure in order to: (1) Sustain compliance with current and future regulatory and code requirements, (2) provide reliable services and alternate sources for planned maintenance and unscheduled repairs, and to assure availability during periods of emergency and natural disaster, (3) conserve and effectively manage resources, and (4) accommodate current and potential future growth at MCB Camp Pendleton. The proposed action consists of eight projects, which are discussed below.

Northern Regional Tertiary Treatment Plant (NRTTP) and Associated Facilities (MILCON P-1043)

P-1043 would construct a 5-million-gallon per day NRTTP and sludge treatment facility near the location of existing Sewage Treatment Plant (STP) 11. This project consolidates and replaces the existing Sewage Treatment Plants (STP) 10, 11, and 12 and would treat raw sewage from the associated collection system and conveyance lines. In order to accomplish this, the project would include modification or reuse of the existing headworks facilities at STPs 10, 11, and 12; a new sewer conveyance line from STP 12 in San Mateo (62 Area) to the new NRTTP; lift stations, and the conversion of STP 12 to a Tributary Area Pump Station (TAPS). The new NRTTP will include various sewage treatment components within the plant compound such as: an influent pump station, sludge treatment and handling facilities, preliminary treatment facilities, secondary treatment facilities, advanced (tertiary) wastewater treatment facilities, chemical storage and feed systems, odor control facilities, and a 4,600-square-foot operations facility. Some demolition may be required as part of the conversion of STPs 10, 11, and 12 to TAPS.

P-1043 would construct approximately 36,000 linear feet (LF) of wastewater main lines sized from 8 to 15 inches in diameter. The project would begin in Talega (64 Area) and would continue through Cristianitos (63 Area) to the proposed TAPS 12 at San Mateo (62 Area). The project would provide new wastewater lines to replace the existing wastewater lines from the San Onofre Housing area to the proposed NRTTP. A new wastewater line would also replace the existing wastewater line from Horno (53 Area) through the School of Infantry (52 Area) to the proposed NRTTP. The project would also construct approximately 70,000 LF of pipeline from the NRTTP to convey recycled water to selected reuse areas in Talega (64 Area). The project would include new Reuse Pump Stations, a 2-million-gallon NRTTP reuse water storage facility, and backflow preventors to prevent any cross connections between the potable and wastewater systems.

Alternatives—The alternative for P-1043 would be an alternative alignment from San Mateo (62 Area) to STP 11. This alignment would extend the line from STP/TAPS 12 south along Coast Road, east of the northern agriculture fields and to Basilone Road, and then east along Basilone Road to STP 11. This alignment would follow the alignment for P-1045 discussed below. Also, the use of Horizontal Directional Drilling (HDD) for passing under San Mateo Creek will also be considered as a feasible technology. This will be compared to more standard pipe laying construction methods such as trenching and backfilling.

Advanced Water Treatment (AWT) North and Associated Facilities (MILCON P-1044)

P-1044 would construct AWT facilities to serve the northern region of MCB Camp Pendleton to provide a reduction of total dissolved solids, total organic carbon, and corrosivity. Construction would include a Granulated Activated Carbon/Reverse Osmosis facility and associated Brine Disposal System. Micro-filtration system is used for water treatment. The Brine Disposal System would connect the Reverse Osmosis module and would include a brine/slurry dilution facility, brine line pump station, and pipeline to an ocean outfall at San Onofre Nuclear Generating Station (SONGS). The project would also construct wellhead collection points with associated piping and pumps and an 800-square-foot operations facility. P-1044 would construct approximately 59,000 LF of main water lines, with pipelines ranging in size from 10 to 14 inches in diameter for potable water conveyance in the northern region of MCB Camp Pendleton. The new lines would connect into the new AWT Facility North. The line would begin at the AWT facility in the San Onofre Housing Cantonment area and continue to Horno (53 Area). A second water line would link Talega (64 Area) to San Mateo (62 Area). The project would include three pump stations with emergency generators, asphalt patches, and connection to existing reservoirs and distribution system. Potable water loops, 8-inch in diameter would be installed within each cantonment and housing area totaling approximately 21,000 LF of piping.

Alternative—Alternatives would include consideration of multiple independent raw water treatment facilities and feasible treatment technologies located within multiple cantonment areas instead of consolidated regional treatment plants.

Connection of North and South Water Systems (MILCON P-1045)

P-1045 would construct approximately 90,000 LF of potable waterlines sized approximately 36 inches in diameter to connect the northern and southern water systems of MCB Camp Pendleton. A water line would begin at the proposed AWT Facility (P-1044), extend past the SONGS Mesa facility, and then continue along the east side of Interstate 5 (I-5) before crossing San Onofre Creek. The line would travel south along Stuart Mesa Road, cross the Santa Margarita River, and then would connect to the southern water system at the intersection of Stuart Mesa Road and Vandegrift Boulevard. The project would also include three pump stations at the north, central, and south portions of the Base to connect Las Pulgas, Las Flores, and the Stuart Mesa areas to the South Water System.

Alternative Alignment—This alternative alignment would begin at the proposed AWT facilities (P-1044) and extend east along Basilone Road (instead of El Camino Real) to Las Pulgas Road and then south on Las Pulgas Road to Stuart Mesa Road. At Stuart Mesa Road the alignment would follow the same alignment of the proposed action to the connection of the southern system at the corner of Stuart Mesa Road and Vandegrift Boulevard. Also, the project would consider the use of approximately 7,000 LF of HDD beneath San Onofre Creek and the Santa Margarita River.

Upgrades to Electrical Systems and Associated Facilities (MILCON P-1048)

P-1048 would construct a 69 kilovolt (kV) electrical transmission system that will provide a more efficient and reliable transmission method, system redundancy and energy cost savings. The 69 KV system will meet industry standard for long distance delivery of power and provide capability to back feed all cantonment areas from a secondary source during blackouts caused by wildfires, other natural disasters, and/or systems failure. The project would construct four new 69 kV substations located (1) at the existing Haybarn Canyon location, (2) near the intersection of Pulgas Road and Stuart Mesa Road, (3) in the vicinity of the SONGS, and (4) in the general area of the intersection of Cristianitos Road and San Mateo Road. The first three substations would connect to existing San Diego Gas and Electric (SDG&E) 69 kV lines. The fourth substation would convert the proposed MCB Camp Pendleton 69 kV line to the existing MCB Camp Pendleton 12 kV system. The project would provide distribution of electrical power through four different connecting segments. The first segment (Haybarn segment) would include a new 69 kV overhead distribution line with a 12 kV line running on the same utility poles. These lines would connect the proposed Substation #1 to Range 409. For the second segment, the 69 kV distribution line would extend underground (to avoid conflicts with aircraft training and safety) through Range 409 to resurface in the eastern portion of the Base. For the third segment, the 69 kV distribution line would continue overhead along the eastern and northern Base boundaries following the SDG&E 230 kV transmission lines, proceed down Cristianitos Road and connect to the proposed Substation #4, and continue to I-5. The line would parallel I-5 toward the proposed Substation #3 located in the vicinity of SONGS, completing the northern loop. For the fourth segment, the final 69 kV overhead power line would extend from the proposed Substation #2 and follow Pulgas Road with a 69 kV and 12 kV distribution line on the same utility pole. At Las Pulgas (43 Area), only the 69 kV line would continue south along Basilone Road to Roblar Road to connect to the Haybarn line, completing the southern loop.

Alternative Alignment—The alternative to P-1048 would be to underground all four electrical line segments. Under the proposed action only the segment through Range 409 is proposed to be underground.

MILCON P-1094

P-1094 would replace the existing 12 kV electrical distribution systems currently fed from the Haybarn substation, and the 4.16 kV subsystems fed from the 12 kV distribution system. The project would construct a total of 8 new 12 kV circuits, which would be fed from the new 69 kV substation (P-1048), to provide approximately 60 percent of the electrical power for MCB Camp Pendleton. Existing “A” circuit provides power to the 11, 12, 13, 15, and 16 (Mainside) areas of MCB Camp Pendleton. Existing “C” circuit would provide power to the 23 (Marine Corps Air Station Camp Pendleton (MCAS CP)), 25 Vado del Rio), 32 (MASS-3), and 33 (Margarita) areas. Existing “E” circuit would provide power to the 20 (Main Gate), 22 (Chappo), and 26 (at the bottom of Rattlesnake Canyon Rd) areas and would also provide power to the housing areas at Wire Mountain. Existing “F” circuit would provide power to the 26 Area and the Naval Hospital. Existing “G” circuit would provide power to the 14 and 15 (Mainside) areas, O'Neil Housing, Camp Day, and Range 409. Existing “H” circuit would provide power to the 23 (MCAS CP) and 24 (Pico) areas. The project would provide replacement 12 kV circuits for the existing “A,” “C,” “E,” “F,” “G,” and “H” circuits and would provide new circuits to supply power to 21 Area (Del Mar) and the 31 Area (Edson Range and Assault Craft Unit-5). Overhead distribution lines would include aluminum core steel reinforced wire and both 45-foot and 70-foot tall wood poles, with crossarms and insulators. Underground distribution lines would include copper insulation, 4 to 6-inch polyvinyl chloride conduit, trenching, pavement cutting, utility vault placement, conduit placement, grounding, concrete encasement, and asphalt pavement patching.

Alternative Alignment—Similar to the alternative for P-1048, the alternative for P-1094 would be to underground the proposed electrical lines.

Wastewater Facilities, Roadway Improvements, and Shoot House Construction and Expansion (MILCON P-1049)

P-1049 would construct approximately 20,000 LF of potable water and sanitary sewer utilities, including new sewer lines, manholes, cleanouts, and a lift station, to better house and train Marines at the Range 130 Complex in the X-Ray Training Area. P-1049 would also include approximately 3 miles of roadway improvements, including 10-inch base material, track mix asphalt surface course, and culverts at established drainage points. Other facilities proposed include a 2,500-square-foot shoot house and a 24,000-square-foot covered small arms range. The project would also enlarge an existing covered small arms range to approximately 34,000 square feet.

Alternative Alignment—This alignment would extend from the preferred alignment along the main access road to Range 130, west to the pump station in the 41 Area instead of continuing along the main access road southwest to Stuart Mesa Road. This would reduce the overall pipe length by approximately 3,000 LF.

Communication Upgrades (MILCON P-1093)

P-1093 would provide both intercamp and intracamp fiber-optic cable and telephone cable connections. This project would provide a redundant communications network by providing a minimum of two separate communication line paths to each area on the Base.

Alternatives—Potential alternatives for P-1099 include placing all communication lines overhead. Another alternative to be addressed would include the use of wireless communication instead of landline communication.

Natural Gas System Upgrades (MILCON P-1099)

P-1099 installs new high pressure 6 inch High Density Polyethylene (HDPE) gas mains in four separate locations: (1) Approximately 15,000 LF from 62 (San Mateo) Area to 63 (Christainitos) Area and to 64 (Talega) Area (currently the 63 and 64 Cantonment Areas are only supplied by propane gas storage tanks), (2) approximately 30,000 LF from 41 Area to 43 Area, (3) approximately 30,000 LF from 43 Area to 25 Area (interconnecting the southern and northern natural gas systems, and (4) approximately 15,000 LF from the Naval Hospital to the Headquarters Area (providing the Naval Hospital with back-up source of natural gas). Construction would consist of saw cutting existing asphalt concrete pavement, trench excavation, and installation of new HDPE pipe including fittings, etc. P-1099 would also include patching of existing pavement and related roadway lane striping and traffic control.

Alternative Alignment—The alternative alignment for P-1099 would extend the proposed natural gas the line from the Naval Hospital east through undeveloped land directly to De Luz Road.

Preliminary Alternatives

The EIS will address the proposed utility alignments, alternative utility segment alignments, and alternative alignment installation (aboveground, underground) as briefly discussed above. In addition, alternative technologies, including multiple smaller systems; and the No Action Alternative will be addressed.

Environmental Issues and Resources To Be Examined

The EIS will evaluate the potential environmental effects associated with each of the alternatives. Issues to be addressed include, but are not limited to, biological resources, historic and archaeological resources, geology and soils, hydrology, water quality, air quality, visual resources, and public services. Relevant and reasonable measures that could alleviate environmental effects will be identified and considered.

Other Agency Involvement

The Department of the Navy will undertake necessary consultations with regulatory entities pursuant to the Endangered Species Act, Clean Water Act, National Historic Preservation Act, and any other applicable law or regulation. Consultation will include but is not limited to the following federal, state, and local agencies: U.S. Fish and Wildlife Service; State Historic Preservation Officer; American Indian Tribes; U.S. Army Corps of Engineers; U.S. Environmental Protection Agency; all local Historic Site Boards and Heritage organizations; California Regional Water Quality Control Board; California Coastal Commission; San Diego Air Pollution Control District; and the County of San Diego, Department of Environmental Health.

Public Scoping Process: The Department of the Navy is initiating the scoping process to identify community concerns and local issues that should be addressed in the EIS. Federal, State, and local agencies and interested persons are encouraged to provide oral and/or written comments to identify specific issues or topics of environmental concern for consideration in the EIS. The Navy will consider these comments in determining the scope for the EIS. The public scoping period begins with the publication of this Notice of Intent, and will continue for 30 days, ending on December 15, 2008. Written comments on the scope of the EIS should be submitted no later than December 15, 2008 by mail to Ms. Rebecca Loomis, Naval Facilities Engineering Command, Southwest, 1220 Pacific Highway, San Diego, California 92132 or e-mail to Rebecca.l.loomis@navy.mil. The public scoping meeting will be held in the San Clemente Community Center, 100 North Calle Seville, San Clemente, California 92672 from 6 p.m. to 8 p.m. on December 10, 2008. The meeting also will be announced by notices published in the North County Times and San Clemente Times 15 days prior to the scoping meeting. A court reporter will be available at the meeting to accept oral comments.

Dated: November 5, 2008.
T. M. Cruz,
Lieutenant Commander, Judge Advocate General's Corps, U.S. Navy, Federal Register Liaison Officer.

[FR Doc. E8-26817 Filed 11-10-08; 8:45 am]

BILLING CODE 3810-FF-P